ENVIRONMENTAL PROTECTION AGENCY

40 CFR Part 52

[EPA-R10-OAR-2012-0380; FRL-9693-9]

Approval and Promulgation of Air Quality Implementation Plans; Washington; Determination of Clean Data for the 2006 24-Hour Fine Particulate Standard for the Tacoma, Pierce County Nonattainment Area

AGENCY: Environmental Protection Agency (EPA).

ACTION: Proposed rule.

SUMMARY: EPA is proposing to determine that the Tacoma, Pierce County nonattainment area (hereafter referred to as “Tacoma, Pierce County” or “the area”) for the 2006 24-hour fine particulate matter (PM2.5) National Ambient Air Quality Standard (NAAQS) has clean data for the 2006 24-hour PM2.5 NAAQS. This proposed determination is based upon quality-assured, quality-controlled, and certified ambient air monitoring data showing that the area has monitored attainment of the 2006 PM2.5 NAAQS based on the 2009-2011 data available in EPA's Air Quality System (AQS) database. If this proposed determination is made final, the requirements for the area to submit an attainment demonstration, associated reasonably available control measures (RACM), a reasonable further progress plan (RFP), contingency measures, and other planning State Implementation Plans (SIPs) related to attainment of the standard shall be suspended for so long as the area continues to meet the 2006 24-hour PM2.5 NAAQS. This action is being taken under the Clean Air Act (CAA).

DATES: Written comments must be received on or before August 6, 2012.

ADDRESSES: Submit your comments, identified by Docket ID No. EPA-R10-OAR-2012-0380, by any of the following methods:

• www.regulations.gov: Follow the on-line instructions for submitting comments.

• Email: R10-Public_Comments@epa.gov.

• Mail: Jeff Hunt, EPA Region 10, Office of Air, Waste and Toxics (AWT-107), 1200 Sixth Avenue, Suite 900, Seattle, WA 98101.

• Hand Delivery/Courier: EPA Region 10, 1200 Sixth Avenue, Suite 900, Seattle, WA 98101. Attention: Jeff Hunt, Office of Air, Waste and Toxics, AWT-107. Such deliveries are only accepted during normal hours of operation, and special arrangements should be made for deliveries of boxed information.

Instructions: Direct your comments to Docket ID No. EPA-R10-OAR-2012-0112. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Jeff Hunt at telephone number: (206) 553-0256, email address: hunt.jeff@epa.gov, or the above EPA, Region 10 address.

SUPPLEMENTARY INFORMATION: Throughout this document whenever “we,” “us,” or “our” is used, we mean EPA.

The following outline is provided to aid in locating information in this preamble.

I. What action is EPA taking?

II. What is the effect of this action?

III. What is the background for this action?

IV. What is EPA's analysis of the relevant air quality data?

V. What is EPA's proposed action?

VI. Statutory and Executive Order Reviews

I. What action is EPA taking?

EPA is proposing to determine that the area has clean data for the 2006 24-hour PM2.5 NAAQS. This determination is based upon quality-assured, quality-controlled, and certified ambient air monitoring data showing that the area has monitored attainment of the 2006 PM2.5 NAAQS based on 2009-2011 monitoring data.

II. What is the effect of this action?

If this determination is made final, under the provisions of EPA's PM2.5 implementation rule (40 CFR 51.1004(c)), the requirements for the area to submit an attainment demonstration, associated RACM, RFP plan, contingency measures, and any other planning SIP requirements related to attainment of the 2006 24-hour PM2.5 NAAQS would be suspended for so long as the area continues to meet this NAAQS. Furthermore, as described below, a final clean data determination would not be equivalent to a redesignation of the area to attainment for the 2006 24-hour PM2.5 NAAQS.

If EPA subsequently determines that the area is in violation of the 2006 24-hour PM2.5 NAAQS, the basis for the suspension of the specific requirements, set forth at 40 CFR 51.1004(c), would no longer exist and the area would thereafter have to address the pertinent requirements.

The proposed clean data determination that the air quality data shows attainment of the 2006 24-hour PM2.5 NAAQS is not equivalent to the redesignation of the area to attainment. This proposed action, if finalized, will not constitute a redesignation to attainment under section 107(d)(3) of the CAA, because we would not yet have an approved maintenance plan for the area as required under section 175A of the CAA, nor a determination that the area has met the other requirements for redesignation. The designation status of the area would remain nonattainment for the 2006 PM2.5 NAAQS until such time as EPA determines that the area meets the CAA requirements for redesignation to attainment.

III. What is the background for this action?

The 2006 PM2.5 NAAQS set forth at 40 CFR 50.13 became effective on December 18, 2006 (71 FR 61144) and promulgated a 24-hour standard of 35 micrograms per cubic meter (µg/m³) based on a 3-year average of the 98th percentile of 24-hour concentration. On December 14, 2009 (74 FR 58688), EPA made designation determinations, as required by CAA section 107(d)(1), for the 2006 24-hour PM2.5 NAAQS. As part of that action, Tacoma, Pierce County (partial county designation) became designated as nonattainment for the 2006 24-hour PM2.5 NAAQS.

IV. What is EPA's analysis of the relevant air quality data?

EPA has reviewed the ambient air monitoring data for PM2.5, consistent with the requirements contained in 40 CFR part 50, as recorded in the EPA Air Quality System (AQS) database for the Tacoma, Pierce County, 2006 24-hour PM2.5 nonattainment area. All data considered have been recorded in the AQS data base, certified as meeting quality assurance requirements, and determined to have met data completeness requirements. On the basis of that review, EPA has concluded that this area attained the 2006 24-hour PM2.5 NAAQS during the 2009-2011 monitoring period. Under EPA regulations at 40 CFR 50.7: “The 24-hour primary and secondary PM2.5 standards are met when the 98th percentile 24-hour concentration, as determined in accordance with appendix N of this part, is less than or equal to 35 μg/m³.” The following table shows the design values (the metrics calculated in accordance with 40 CFR part 50, appendix N, for determining compliance with the NAAQS) for the 2006 24-hour PM2.5 NAAQS for the years 2009-2011. Because the 2009-2011 design value at the Federal Reference Method monitor, Tacoma South L Street, is equal to the 2006 24-hour PM2.5 NAAQS of 35 μg/m³, EPA is proposing to determine that the area has monitored attainment for this NAAQS.

2009-2011 Daily Average Concentrations in the Tacoma, Pierce County Nonattainment Area
Monitor name | Monitor ID | 2009-11 Design values (µg/m³)
Tacoma South L Street ¹ | 530530029 | 35
Tacoma Tide flats—2301 Alexander Ave ² | 530530031 | 24
Puyallup 5722 66th Ave E ² | 530530022 | 21
Puyallup South Hill ² | 530531018 | 22
¹ The Tacoma South L Street site is the Federal Reference Method (FRM) monitor used for determining compliance with the 2006 PM2.5 NAAQS. PM2.5 AQS data and information is available as part of EPA's AirTrends Site at: http://www.epa.gov/airtrends/values.html. More recent 2011 data is included as part of the docket for this action.
² The three additional monitors located in the nonattainment area listed above are neither Federal Reference Method nor Federal Equivalent Method (FEM) monitors but are included to provide supplementary information. Detailed information on how EPA calculated the design values for these monitors is included in the docket for this action.

V. What is EPA's proposed action?

EPA is proposing to determine that the Tacoma, Pierce County area has clean data for the 2006 24-hour PM2.5 NAAQS. As provided in 40 CFR 51.1004(c), if EPA finalizes this determination, it will suspend the requirements for the area to submit an attainment demonstration, associated RACM, RFP, contingency measures, and any other planning SIP requirements related to the attainment of the 2006 PM2.5 NAAQS, so long as the area continues to meet the standard. EPA is soliciting public comments on the issues discussed in this document. These comments will be considered before taking final action.

VI. Statutory and Executive Order Reviews

This action proposes to make an attainment determination based on air quality data and would not, if finalized, impose any additional requirements. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rulemaking that the Tacoma, Pierce County PM2.5 nonattainment area has clean data for the 2006 24-hour PM2.5 standard does not impose substantial direct costs on tribal governments or preempt tribal law as specified by Executive Order 13175 (65 FR 67249, November 9, 2000).

List of Subjects in 40 CFR Part 52

Environmental protection, Air pollution control, Particulate matter, Reporting and recordkeeping requirements.

Authority: 42 U.S.C. 7401 et seq.

Dated: June 19, 2012.
Julie M. Hagensen,
Acting Regional Administrator, Region 10.

[FR Doc. 2012-16312 Filed 7-3-12; 8:45 am]

BILLING CODE 6560-50-P